DEPARTMENT OF EDUCATION

Extension of Deadlines for Transmittal of Applications; Hurricane Education Recovery

AGENCY: Office of Elementary and Secondary Education, Department of Education.

ACTION: Notice; extension of deadlines.

SUMMARY: On April 25, 2018, the U.S. Department of Education (Department) published in the Federal Register a notice announcing the availability of funds and application deadlines for the Temporary Emergency Impact Aid for Displaced Students (Emergency Impact Aid) and the Assistance for Homeless Children and Youth programs under Division B, Subdivision 1, Title VIII, “Hurricane Education Recovery,” of Public Law 115-123, the “Bipartisan Budget Act of 2018.” This notice extends the original May 25, 2018 deadlines for State educational agency (SEA) transmittal of both applications to June 4, 2018. In addition, this notice extends the original May 15, 2018 deadline for local educational agencies (LEAs) to submit applications to SEAs under the Emergency Impact Aid program to May 25, 2018.

DATES: Deadline for Transmittal of SEA Application for the Emergency Impact Aid program: June 4, 2018. SEAs must submit any application amendments affecting allocations under the Emergency Impact Aid program to the Department no later than July 20, 2018.

Deadline for Transmittal of SEA Application for the Homeless Children and Youth program: June 4, 2018.

Deadline for LEAs to submit applications to SEAs under the Emergency Impact Aid program: May 25, 2018. An SEA may establish additional reasonable deadlines to collect necessary revisions from LEAs, Bureau of Indian Education schools, and non-public schools, to facilitate submission of SEA final application amendments by July 20, 2018.

Deadline for LEAs to submit applications to SEAs under the Assistance for Homeless Children and Youth program: There is no statutory deadline for LEA applications under this program. Each eligible SEA will set a reasonable deadline for the submission of LEA applications.

FOR FURTHER INFORMATION CONTACT: For additional information on the Emergency Impact Aid program, please contact Francisco Ramirez. Telephone (202) 260-1541. Email: K12EmergencyImpactAid@ed.gov. For additional information on the Assistance for Homeless Children and Youth program, please contact Peter Eldridge. Telephone (202) 260-2514. Email: HurricaneHomeless@ed.gov.

If you use a telecommunications device for the deaf (TDD) or a text telephone (TTY), call the Federal Relay Service (FRS), toll free, at 1-800-877-8339.

SUPPLEMENTARY INFORMATION: On April 25, 2018, we published in the Federal Register (83 FR 18015) a notice announcing availability of funds and application deadlines for the Temporary Emergency Impact Aid for Displaced Students (Emergency Impact Aid) and the Assistance for Homeless Children and Youth programs under Division B, Subdivision 1, Title VIII, “Hurricane Education Recovery,” of Public Law 115-123, the “Bipartisan Budget Act of 2018.” This notice extends the deadlines for transmittal of both applications. In addition, this notice clarifies and extends the deadline for SEAs to submit application amendments affecting allocations under the Emergency Impact Aid program, including any updated enrollment data generally for any quarter and any previously unreported fourth quarter data for the 2017-18 school year. Further, this notice clarifies that SEAs may establish additional reasonable deadlines to collect any necessary revisions from LEAs, Bureau of Indian Education schools, and non-public schools for any final application amendments. If an SEA is ready to submit its initial Emergency Impact Aid application by the original May 25 deadline, it may still do so, as the Department plans to begin reviewing applications as soon as they are received and to process payments on a rolling basis. Except as detailed in this notice, all other requirements and conditions stated in the notice announcing availability of funds remain the same.

Additional information about the Emergency Impact Aid and the Assistance for Homeless Children and Youth programs is available on the Department's website at www.ed.gov/disasterrelief.

Exemption from Rulemaking: These programs are exempt from the rulemaking requirements in section 437 of the General Education Provisions Act (GEPA) (20 U.S.C. 1232) and section 553 of the Administrative Procedure Act (APA) (5 U.S.C. 553), as established in Division B, Subdivision 1, Title VIII, “Hurricane Education Recovery” paragraph (6), of Public Law 115-123, the “Bipartisan Budget Act of 2018.” 132 Stat. 98.

Program Authority: Division B, Subdivision 1, Title VIII of Public Law 115-123, the “Bipartisan Budget Act of 2018.”

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents published by this Department in the Federal Register, in text or Portable Document Format (PDF). To use PDF you must have Adobe Acrobat Reader, which is available free through a link at the site.

You may also access documents of the Department published in the Federal Register by using the article search feature at: www.federalregister.gov. Specifically, through the advanced search feature at this site, you can limit your search to documents published by the Department.

Jason Botel,
Principal Deputy Assistant Secretary Delegated the Authority to Perform the Functions and Duties of Assistant Secretary for Elementary and Secondary Education.

[FR Doc. 2018-11181 Filed 5-23-18; 8:45 am]

BILLING CODE 4000-01-P